DEPARTMENT OF COMMERCE

National Oceanic and Atmospheric Administration

Establishment of the Advisory Committee for the Sustained National Climate Assessment and Solicitation for Nominations for Membership

AGENCY: National Oceanic and Atmospheric Administration (NOAA), Commerce.

ACTION: Notice of establishment of the Advisory Committee for the Sustained National Climate Assessment and solicitation for nominations for membership.

SUMMARY: Notice is hereby given that the Secretary of Commerce has determined that the establishment of the Advisory Committee for the Sustained National Climate Assessment (Committee) is necessary and in the public interest. Accordingly, NOAA has chartered the Advisory Committee for the Sustained National Climate Assessment. NOAA is also soliciting nominations for membership on the Committee.

The Committee's mission is to provide advice on sustained National Climate Assessment activities and products to the Under Secretary of Commerce for Oceans and Atmosphere (Under Secretary) who will forward the advice to the Director of the Office of Science and Technology Policy (OSTP). The Committee's scope is—as requested by the Under Secretary—to advise on the engagement of stakeholders and on sustained assessment activities and the quadrennial National Climate Assessment report.

Points of View: Individuals are sought with expertise in communications, engagement, and education; risk management and risk assessment; economics and social sciences; technology, tools, and data systems; and other disciplines relevant to the sustained National Climate Assessment process. In addition, individuals are sought with expertise in climate change and variability, spanning the range from climate science (physical, biological, chemical) to impacts and societal responses. Individuals with experience in the private sector, academia, public sector, non-governmental organizations, and others will all be given consideration.

Nominations: Interested persons may nominate themselves or third parties.

Applications: An application is required to be considered for membership, regardless of whether a person is nominated by a third party or self-nominated. The application package must include: (1) The nominee's full name, title, institutional affiliation, and contact information; (2) the nominee's area(s) of expertise; (3) a short description of his/her qualifications relative to the kinds of advice being solicited by NOAA in this Notice; and (4) a current resume (maximum length four pages). Information obtained as a result of this request may be used by the government for program planning on a non-attribution basis. Do not include any information that might be considered proprietary or confidential.

If selected, members will be appointed as special government employees (SGEs) and will be subject to the ethical standards applicable to SGEs. They will also be asked to certify that they are not required to register under the Foreign Agents Registration Act, and that they are not Federally-registered lobbyists.

DATES: Nominations should be submitted via the web address specified below and must be received by forty-five (45) days after this notice is published.

ADDRESSES: Applications should be submitted electronically via http://globalchange.gov/notices.

FOR FURTHER INFORMATION CONTACT: Emily Therese Cloyd, NCA Public Participation and Engagement Coordinator, U.S. Global Change Research Program Office, Telephone (202) 223-6262, Fax (202) 223-3064, Email ecloyd@usgcrp.gov. For more information on the NCA process, please visit http://assessment.globalchange.gov.

SUPPLEMENTARY INFORMATION: The U.S. Global Change Research Program (USGCRP), the principal program responsible for coordinating and integrating U.S. federal research on climate change. Under the Global Change Research Act of 1990, the USGCRP is responsible for producing the National Climate Assessment, the last iteration of which was published in May 2014. The USGCRP is now building a process to ensure all future assessments are responsive to stakeholder needs, scientifically credible and conducted in an efficient manner, coordinating the efforts of partners both inside and outside of the government. It is the goal of the USGCRP to create a sustainable assessment process that involves networks of participants in regions and sectors across the country in addition to engaging federal scientists in multiple agencies. This will enable assessment activities and products to address national, regional, sectoral, and topical needs over time and to serve important policy and science objectives. Establishing an ongoing, consistent, and replicable approach to assessment of current and projected climate impacts and climate-related risk will help identify opportunities as well as hazards associated with changes in climate conditions. It will also support U.S. contributions to international assessment, adaptation and mitigation programs. This information can be used to prioritize federal activities that support adaptation and mitigation decisions in the federal government as well as within states, regions, and sectors and to continuously reassess priorities for federal science investments.

The Committee will consist of non-government experts who will advise on the engagement of stakeholders and on sustained assessment activities and the quadrennial National Climate Assessment report. Within the scope of its mission, the Committee's specific objective is to provide advice on a sustained National Climate Assessment process that:

1. Integrates, evaluates, and interprets the findings of the U.S. Global Change Research Program (USGCRP) and discusses the scientific uncertainties with such findings;

2. Analyzes the effects of current and projected climate change upon ecosystems and biological diversity, agriculture, energy production and use, land and water resources, transportation, human health and welfare, and social systems, including in a regional context;

3. Analyzes current trends in global change, both human-induced and natural, and projects major trends for the subsequent 25 to 100 years;

4. Is a continuing, inclusive National process that synthesizes relevant science and information about changes in the Earth system as they affect the Nation's climate, and about how such changes relate to and interact with changes in social, economic, ecological, and technological systems;

5. Addresses risk-based vulnerabilities for business and industry as related to the impacts of weather and climate variations and changes; and

6. Supports climate-related decisions by providing information in formats that are useful to decision support.

To assure a balanced representation of views among preeminent scientists, engineers, educators, and other experts reflecting the full scope of issues addressed in the National Climate Assessment and/or relevant to the sustained national assessment process, the Committee will consist of fifteen (15) non-Federal members. The Under Secretary, in consultation with the Director of OSTP, shall select and appoint members.

Members will be selected for appointment on a clear and standardized basis in accordance with Department of Commerce guidance. Each member shall be appointed for a term of one, two, or three years and shall serve at the discretion of the Under Secretary. Thereafter, members may be reappointed for successive terms of two years. To the extent possible, not more than one-third of the total membership shall change in any one year. Members will be appointed as special government employees (SGEs) and will be subject to the ethical standards applicable to SGEs. Members are reimbursed for actual and reasonable travel and per diem expenses incurred in performing such duties, but will not be reimbursed for their time. As a Federal Advisory Committee, the Committee's membership is required to be balanced in terms of viewpoints represented and the functions to be performed as well as the interests of geographic regions of the country and the diverse sectors of U.S. society.

The Committee is expected to meet in person at least once each year, plus additional teleconferences or subgroup meetings. Committee members must be willing to serve as liaisons to Committee subgroups and/or participate in reviews and activities as requested by the Under Secretary.

The Advisory Committee for the Sustained National Climate Assessment will function solely as an advisory body and in compliance with provisions of the Federal Advisory Committee Act. Copies of the charter will be filed with the appropriate Committees of the Congress and with the Library of Congress.

Dated: July 27, 2015.
Christine Blackburn,
Deputy Chief of Staff, National Oceanic and Atmospheric Administration.

[FR Doc. 2015-18781 Filed 7-30-15; 8:45 am]

BILLING CODE 3510-22-P